DEPARTMENT OF JUSTICE

Notice of Lodging of Proposed Consent Decree Under The Clean Air Act

On May 10, 2019, the Department of Justice lodged a proposed Consent Decree with the United States District Court for the Western District of Michigan in the lawsuit entitled United States v. Empire Iron Mining Partnership, Civil Action No. 19-096.

The United States filed a Complaint in this lawsuit under the Clean Air Act (CAA), naming Empire Iron Mining Partnership as the defendant. The Complaint seeks injunctive relief and civil penalties for violations of the environmental regulations that govern taconite mines and processing plants and the emission of particulate matter from certain sources at defendant's taconite processing plant in Palmer, Marquette County, Michigan. Under the proposed Consent Decree, Empire Iron Mining Partnership agrees to implement procedures to improve future compliance with the CAA and State regulations, and pay $75,000 in civil penalties. In return, the United States agrees not to sue the defendant under section 113 of the CAA related to its past violations.

The publication of this notice opens a period for public comment on the proposed Consent Decree. Comments should be addressed to the Assistant Attorney General, Environment and Natural Resources Division, and should refer to United States v. Empire Iron Mining Partnership, D.J. Ref. No. 90-5-2-1-11180. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $6.00 (25 cents per page reproduction cost) payable to the United States Treasury.

Randall M. Stone,
Acting Assistant Section Chief, Environmental Enforcement Section, Environment and Natural Resources Division.

[FR Doc. 2019-10159 Filed 5-15-19; 8:45 am]

BILLING CODE 4410-15-P